ELECTION ASSISTANCE COMMISSION

Sunshine Act Notice

AGENCY: United States Election Assistance Commission.

* * * * *

ACTION: Notice of Public Meeting for EAC Standards Board.

Date And Time: Thursday, February 26, 2009, 8:30 a.m.-5:30 p.m. and Friday, February 27, 2009, 9 a.m.-5 p.m.

Place: DoubleTree Orlando Hotel at the Entrance to Universal Orlando, 5780 Major Boulevard, Orlando, Florida 32819, Phone number (407) 351-1000.

Purpose: The U.S. Election Assistance Commission (EAC) Standards Board, as required by the Help America Vote Act of 2002, will meet to elect the Executive Board of the Standards Board. The Standards Board will also be presented on updates of the Voluntary Voting System Guidelines, the NIST UOCAVA study, and the Threat/Risk Assessment Project. They will also have the opportunity to formulate recommendations to EAC regarding those presentations and consider other administrative matters.

This meeting will be open to the public.

Person to Contact for Information: Sharmili Edwards, Telephone: (202) 566-3100.

Gineen Bresso Beach,
Chair, U.S. Election Assistance Commission.

[FR Doc. E9-2751 Filed 2-5-09; 4:15 pm]

BILLING CODE 6820-KF-P